DEPARTMENT OF ENERGY

Federal Energy Regulatory Commission

[Docket Nos. CP01-387-000, CP01-384-000, CP01-385-000, CP01-386-000, CP02-52-000, CP02-31-000]

Algonquin Gas Transmission Company, Islander East Pipeline Company, L.L.C. and Iroquois Gas Transmission System, L.P.; Notice of Non-Decisional Status

June 26, 2002.

Take notice that, for purposes of the above-captioned dockets (and all subdockets in those dockets), Randolph E. Mathura, Director, Division of Pipeline Certificates, Office of Energy Projects, is a non-decisional authority and a non-decisional employee. Cf. 18 CFR 385.102(a)(2002) (definition of decisional authority); 18 CFR 385.2201(c)(3) (2002) (definition of decisional employee).

Linwood A. Watson, Jr.,
Deputy Secretary.

[FR Doc. 02-16606 Filed 7-1-02; 8:45 am]

BILLING CODE 6717-01-P